DEPARTMENT OF COMMERCE

National Oceanic and Atmospheric Administration

50 CFR Part 679

[Docket No. 250312-0037; RTID 0648-XF506]

Fisheries of the Exclusive Economic Zone Off Alaska; Pacific Cod by Catcher Vessels Using Trawl Gear in the Central Regulatory Area of the Gulf of Alaska

AGENCY: National Marine Fisheries Service (NMFS), National Oceanic and Atmospheric Administration (NOAA), Commerce.

ACTION: Temporary rule; modification of a closure; request for comments.

SUMMARY: NMFS is opening directed fishing for Pacific cod by catcher vessels using trawl gear in the Central Regulatory Area of the Gulf of Alaska (GOA). This action is necessary to prevent the underharvest of, and to achieve the full use of, the A season allowance of the 2026 total allowable catch (TAC) of Pacific cod allocated to catcher vessels using trawl gear in the Central Regulatory Area of the GOA.

DATES: Effective 1200 hours, Alaska local time (A.l.t.), February 3, 2026, through 1200 hours, A.l.t., June 10, 2026. Comments must be received at the following address no later than 4:30 p.m., A.l.t., February 19, 2026.

ADDRESSES: You may submit comments on this document, identified by NOAA-NMFS-2024-0124, by any of the following methods:

Electronic Submission: Submit all electronic public comments via the Federal e-Rulemaking Portal. Visit https://www.regulations.gov and type NOAA-NMFS-2024-0124 in the Search box. Click on the “Comment” icon, complete the required fields, and enter or attach your comments.

Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Abby Jahn, 907-586-7228.

SUPPLEMENTARY INFORMATION: NMFS manages the groundfish fishery in the GOA exclusive economic zone according to the Fishery Management Plan for Groundfish of the Gulf of Alaska (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

NMFS closed directed fishing for Pacific cod by catcher vessels using trawl gear in the Central Regulatory Area of the GOA on January 20, 2026 (91 FR 2496, January 21, 2026). The A season allowance of the 2026 Pacific cod TAC allocated to catcher vessels using trawl gear in the Central Regulatory Area of the GOA is 3,508 metric tons (mt) as established by the final 2025 and 2026 harvest specifications for groundfish in the GOA (90 FR 12468, March 18, 2025) and inseason adjustment (90 FR 60022, December 23, 2026). NMFS has determined that as of February 5, 2026, approximately 3,477 mt of Pacific cod remain in the A season allowance of the 2026 TAC of Pacific cod allocated to catcher vessels using trawl gear in the Central Regulatory Area of the GOA.

In accordance with § 679.25(a)(1)(i), (a)(2)(i)(C), and (a)(2)(iii)(D), and to fully use the 2026 A season allowance of Pacific cod allocated to catcher vessels using trawl gear in the Central Regulatory Area of the GOA, NMFS is terminating the previous closure and is opening directed fishing for Pacific cod by catcher vessels using trawl gear in the Central Regulatory Area of the GOA. The Regional Administrator, Alaska Region, NMFS (Regional Administrator) has determined that this adjustment is necessary to prevent the underharvest of the A season allowance of the 2026 TAC of Pacific cod allocated to catcher vessels using trawl gear in the Central Regulatory Area of the GOA and that reopening of directed fishing for Pacific cod by catcher vessels using trawl gear in the A season in the Central Regulatory Area of the GOA is necessary to achieve this A season allowance for catcher vessels using trawl gear in that area. The Regional Administrator considered the following factors in reaching this decision: (1) the prior catch of Pacific cod by catcher vessels using trawl gear in the Central Regulatory Area of the GOA, which shows the A season allowance for this gear (trawl gear) has not been reached, (2) the harvest capacity and stated intent on future harvesting patterns of vessels participating in this fishery, and (3) the remaining Pacific cod TAC available to harvest in the Central Regulatory Area of the GOA by catcher vessels using trawl gear in the A season.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion, and would delay the opening of directed fishing for Pacific cod by catcher vessels using trawl gear in the A season in the Central Regulatory Area of the GOA. Any delay could prevent the full use of the A season allowance of the 2026 TAC of Pacific cod allocated to catcher vessels using trawl gear in the Central Regulatory Area of the GOA. NMFS was unable to publish a notice providing time for public comment because the most recent, relevant data on catch, harvest capacity and intent, and available TAC for harvest only became available as of January 30, 2026.

There is good cause under 5 U.S.C. 553(d)(3) to establish an effective date less than 30 days after date of publication. This finding is based upon the reasons provided above for waiver of prior notice.

Without this inseason adjustment, NMFS could not allow the fishery for Pacific cod by catcher vessels using trawl gear in the A season in the Central Regulatory Area of the GOA to be harvested in an expedient manner. Under § 679.25(c)(2), interested persons are invited to submit written comments on this action to the above address until February 19, 2026.

Authority: 16 U.S.C. 1801 et seq.

Dated: February 2, 2026.
Kelly Denit,
Director, Office of Sustainable Fisheries, National Marine Fisheries Service.

[FR Doc. 2026-02276 Filed 2-2-26; 4:15 pm]

BILLING CODE 3510-22-P